DEPARTMENT OF THE INTERIOR

National Park Service

[NPS-WASO-NAGPRA-23716; PPWOCRADN0-PCU00RP14.R50000]

Notice of Inventory Completion: Arkansas State Highway and Transportation Department, Little Rock, AR

AGENCY: National Park Service, Interior.

ACTION: Notice.

SUMMARY: The Arkansas State Highway and Transportation Department has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Arkansas State Highway and Transportation Department. If no additional requestors come forward, transfer of control of the human remains to the Indian tribes or Native Hawaiian organizations stated in this notice may proceed.

DATES: Representatives of any Indian tribe or Native Hawaiian organization not identified in this notice that wish to request transfer of control of these human remains should submit a written request with information in support of the request to the Arkansas State Highway and Transportation Department at the address in this notice by September 21, 2017.

ADDRESSES: Kristina Boykin, Arkansas State Highway and Transportation Department, P.O. Box 2261, Little Rock, AR 72203, telephone (501) 569-2079, email Kristina.Boykin@ahtd.AR.gov.

SUPPLEMENTARY INFORMATION: Notice is here given in accordance with the Native American Graves Protection and Repatriation Act (NAGPRA), 25 U.S.C. 3003, of the completion of an inventory of human remains under the control of the Arkansas State Highway and Transportation Department. The human remains were removed from a bluff shelter in Madison County, AR.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology at the University of Arkansas professional staff for the Arkansas State Highway and Transportation Department in consultation with representatives of the Caddo Nation of Oklahoma, Cherokee Nation, The Osage Nation (previously listed as the Osage Tribe), and United Keetoowah Band of Cherokee Indians in Oklahoma.

History and Description of the Remains

In 1991, human remains representing, at minimum, two individuals were recovered from site 3MA238 in Madison County, AR, during an excavation of a borrow pit for White River Bridge Replacement. The appropriate authorities, including Dr. Jerome Rose, were notified and determined that the human remains were Native American. At the request of the Arkansas State Highway and Transportation Department, the human remains were taken to the Osteology Laboratory of the University of Arkansas for forensic analysis and have remained in storage at the lab at the University of Arkansas. Currently, the human remains are being stored at the Arkansas Archeological Survey's curation facility.

The human remains were identified as two adults (30-45 years). The human remains consisted of one male and one female. No known individuals were identified. No associated funerary objects are present. No diagnostic artifacts were found at site 3MA238 to indicate when these human remains were buried. The cultural and temporal identity of these human remains is difficult to discern and they cannot be clearly culturally affiliated with an Indian tribe.

Determinations Made by the Arkansas State Highway and Transportation Department

Officials of the Arkansas State Highway and Transportation Department have determined that:

• Pursuant to 25 U.S.C. 3001(9), the human remains described in this notice represent the physical remains of two individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of The Osage Nation (previously listed as the Osage Tribe).

• Treaties, Acts of Congress, or Executive Orders, indicate that the land from which the Native American human remains were removed is the aboriginal land of the Cherokee Nation, The Osage Nation (previously listed as the Osage Tribe), and United Keetoowah Band of Cherokee Indians in Oklahoma.

• Pursuant to 43 CFR 10.11(c)(1), the disposition of the human remains may be to the Cherokee Nation, The Osage Nation (previously listed as the Osage Tribe), and United Keetoowah Band of Cherokee Indians in Oklahoma.

Additional Requestors and Disposition

Representatives of any Indian tribe or Native Hawaiian organization not identified in this notice that wish to request transfer of control of these human remains should submit a written request with information in support of the request to Kristina Boykin, Arkansas State Highway and Transportation Department, P.O. Box 2261, Little Rock, AR 72203, telephone (501) 569-2079, email Kristina.Boykin@ahtd.AR.gov, by September 21, 2017. After that date, if no additional requestors have come forward, transfer of control of the human remains to the Cherokee Nation, The Osage Nation (previously listed as the Osage Tribe), and United Keetoowah Band of Cherokee Indians in Oklahoma may proceed.

The Arkansas State Highway and Transportation Department is responsible for notifying the Cherokee Nation, The Osage Nation (previously listed as the Osage Tribe), and United Keetoowah Band of Cherokee Indians in Oklahoma that this notice has been published.

Dated: July 6, 2017.
Melanie O'Brien,
Manager, National NAGPRA Program.

[FR Doc. 2017-17645 Filed 8-21-17; 8:45 am]

BILLING CODE 4312-52-P